GENERAL SERVICES ADMINISTRATION

[Notice-WSCC-2019-02; Docket 2019-0004; Sequence No. 2]

Women's Suffrage Centennial Commission; Notification of Public Meetings

AGENCY: Women's Suffrage Centennial Commission, General Services Administration.

ACTION: Meetings notice.

SUMMARY: Notice of two meetings is being provided according to the requirements of the Federal Advisory Committee Act. This notice provides the schedule and agenda for the March 27, 2019, and June 3, 2019, meetings of the Women's Suffrage Centennial Commission (Commission). The meetings are open to the public.

DATES: Meeting dates: The first meeting will be held on Wednesday, March 27, 2019, beginning at 1:00 p.m., and ending no later than 3:00 p.m. (Eastern Daylight Time). The second meeting will be held on Monday, June 3, 2019, beginning at 9:00 a.m., and ending no later than 4:00 p.m. (Eastern Daylight Time).

ADDRESSES: The meeting on March 27, 2019, will be a telephonic meeting. The public may dial into the meeting by calling 866-660-8781 participant code: 9420503. The meeting on June 3, 2019, will be held at the Department of the Interior, 1849 C Street NW, Washington, DC 20240, in the South Penthouse on the 7th Floor.

FOR FURTHER INFORMATION CONTACT: Kim Oliver, Designated Federal Officer, Women's Suffrage Centennial Commission, 1849 C Street NW, Room 7313, Washington, DC 20240; phone: 202-912-7510; fax: 202-219-2100; email: kmoliver@blm.gov.

SUPPLEMENTARY INFORMATION:

Background

Congress passed legislation to create the Women's Suffrage Centennial Commission Act, a bill, “to ensure a suitable observance of the centennial of the passage and ratification of the 19th Amendment of the Constitution of the United States providing for women's suffrage.”

The duties of the Commission, as written in the law, include: (1) To encourage, plan, develop, and execute programs, projects, and activities to commemorate the centennial of the passage and ratification of the 19th Amendment; (2) To encourage private organizations and State and local Governments to organize and participate in activities commemorating the centennial of the passage and ratification of the 19th Amendment; (3) To facilitate and coordinate activities throughout the United States relating to the centennial of the passage and ratification of the 19th Amendment; (4) To serve as a clearinghouse for the collection and dissemination of information about events and plans for the centennial of the passage and ratification of the 19th Amendment; and (5) To develop recommendations for Congress and the President for commemorating the centennial of the passage and ratification of the 19th Amendment.

Meeting Agenda for March 27, 2019

• Welcome and Introductions

• Executive Director update

• Subcommittee updates

• Public Comment Period

• Adjourn

Meeting Agenda for June 3, 2019

• Welcome and Introductions

• Commission business and administrative items

• Executive Director update

• Presentations from informative speakers

• Subcommittee updates

• Public Comment Period

• 2019 Meeting Schedule

• Adjourn

The meetings are open to the public, but preregistration is required. Any individual who wishes to attend the meeting should register via email at kmoliver@blm.gov or telephone 202-912-7510. Space is limited and requests to attend will be accommodated in the order they are received.

Interested persons may choose to make a public comment at the meeting during the designated time for this purpose. Public comments shall be limited by minutes based on the number of participants signed up to comment for the allotted time, and subject to agenda time changes based on the speed of the commission's work through the agenda. Speakers who wish to expand upon their oral statements, or those who had wished to speak but could not be accommodated on the agenda, may submit written statements up to 30 days after the meeting.

Members of the public may also choose to submit written comments by mailing them to Kim Oliver, Designated Federal Officer, 1849 C Street NW, Room 7313, Washington, DC 20240, or via email at kmoliver@blm.gov. Please contact Ms. Oliver at the email address above to obtain meeting materials. All written comments received will be provided to the Commission. Detailed minutes of the meeting will be available for public inspection within 90 days of the meeting.

Individuals requiring special accommodations to access the public meeting should contact Ms. Oliver at least five business days prior to each meeting, so that appropriate arrangements can be made.

Public Disclosure of Comments

Before including your address, phone number, email address, or other personal identifying information in your comment, you should be aware that your entire comment—including your personal identifying information—may be made publicly available at any time. While you can ask us in your comment to withhold your personal identifying information from public review, we cannot guarantee that we will be able to do so.

Jeffrey A. Koses,
Senior Procurement Executive, Office of Acquisition Policy, Office of Governmentwide Policy, General Services Administration.

[FR Doc. 2019-04143 Filed 3-6-19; 8:45 am]

BILLING CODE 3420-37-P